DEPARTMENT OF HOMELAND SECURITY

U.S. Citizenship and Immigration Services

[CIS No. 2661-20; DHS Docket No. USCIS-2015-0005]

RIN 1615-ZB76

Extension of the Designation of Yemen for Temporary Protected Status

AGENCY: U.S. Citizenship and Immigration Services, Department of Homeland Security.

ACTION: Notice.

SUMMARY: Through this notice, the Department of Homeland Security (DHS) announces that the Secretary of Homeland Security (Secretary) is extending the designation of Yemen for Temporary Protected Status (TPS) for 18 months, from March 4, 2020, through September 3, 2021. The extension allows currently eligible TPS beneficiaries to retain TPS through September 3, 2021, so long as they otherwise continue to meet the eligibility requirements for TPS.

This notice also sets forth procedures necessary for nationals of Yemen (or aliens having no nationality who last habitually resided in Yemen) to re-register for TPS and to apply for Employment Authorization Documents (EADs) with U.S. Citizenship and Immigration Services (USCIS). USCIS will issue new EADs with a September 3, 2021, expiration date to eligible beneficiaries under Yemen's TPS designation who timely re-register and apply for EADs under this extension.

DATES: Extension of Designation of Yemen for TPS: The 18-month extension of the TPS designation of Yemen is effective March 4, 2020, and will remain in effect through September 3, 2021. The 60-day re-registration period runs from March 2, 2020 through May 1, 2020. (Note: It is important for re-registrants to timely re-register during this 60-day period and not to wait until their EADs expire.)

FOR FURTHER INFORMATION CONTACT:

• You may contact Maureen Dunn, Chief, Humanitarian Affairs Division, Office of Policy and Strategy, U.S. Citizenship and Immigration Services, U.S. Department of Homeland Security, by mail at 20 Massachusetts Avenue NW, Washington, DC 20529-2060, or by phone at 800-375-5283.

• For further information on TPS, including guidance on the re-registration process and additional information on eligibility, please visit the USCIS TPS web page at www.uscis.gov/tps. You can find specific information about this extension of Yemen's TPS designation by selecting “Yemen” from the menu on the left side of the TPS web page.

• If you have additional questions about TPS, please visit uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at www.uscis.gov, or call the USCIS Contact Center at 800-375-5283 (TTY 800-767-1833).

• Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IJ—Immigration Judge

INA—Immigration and Nationality Act

IER—U.S. Department of Justice Civil Rights Division, Immigrant and Employee Rights Section

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Through this notice, DHS sets forth procedures necessary for eligible nationals of Yemen (or aliens having no nationality who last habitually resided in Yemen) to re-register for TPS and to apply for renewal of their EADs with USCIS. Re-registration is limited to persons who have previously registered for TPS under the designation of Yemen and whose applications have been granted.

For aliens who have already been granted TPS under Yemen's designation, the 60-day re-registration period runs from March 2, 2020 through May 1, 2020. USCIS will issue new EADs with a September 3, 2021, expiration date to eligible Yemeni TPS beneficiaries who timely re-register and apply for EADs. Given the timeframes involved with processing TPS re-registration applications, DHS recognizes that all re-registrants may not receive new EADs before their current EADs expire on March 3, 2020. Accordingly, through this Federal Register notice, DHS automatically extends the validity of these EADs issued under the TPS designation of Yemen for 180 days, through August 30, 2020. Additionally, aliens who have EADs with an expiration date of September 3, 2018, and who applied for a new EAD during the last re-registration period but have not yet received their new EADs are also covered by this automatic extension. Therefore, TPS beneficiaries who have EADs with: (1) A March 3, 2020 or September 3, 2018 expiration date and (2) an A-12 or C-19 category code, can show these EADs as proof of continued employment authorization through August 30, 2020. This notice explains how TPS beneficiaries and their employers may determine which EADs are automatically extended and how this affects the Employment Eligibility Verification (Form I-9), E-Verify, and USCIS Systematic Alien Verification for Entitlements (SAVE) processes.

Aliens who have a Yemen-based Application for Temporary Protected Status (Form I-821) and/or Application for Employment Authorization (Form I-765) that was still pending as of March 2, 2020 do not need to file either application again. If USCIS approves an alien's Form I-821, USCIS will grant the TPS through September 3, 2021. Similarly, if USCIS approves a pending TPS-related Form I-765, it will be valid through the same date. There are currently approximately 1,647 beneficiaries under Yemen's TPS designation.

What Is Temporary Protected Status?

• TPS is a temporary immigration status granted to eligible nationals of a country designated for TPS under the Immigration and Nationality Act (INA), or to eligible persons without nationality who last habitually resided in the designated country.

• During the TPS designation period, TPS beneficiaries are eligible to remain in the United States, may not be removed, and are authorized to obtain EADs so long as they continue to meet the requirements of TPS.

• TPS beneficiaries may also apply for and be granted travel authorization as a matter of discretion.

• The granting of TPS does not result in or lead to lawful permanent resident status.

• To qualify for TPS, beneficiaries must meet the eligibility standards at INA section 244(c)(1)-(2), 8 U.S.C. 1254a(c)(1)-(2).

• When the Secretary terminates a country's TPS designation, beneficiaries return to one of the following:

○ The same immigration status or category that they maintained before TPS, if any (unless that status or category has since expired or been terminated); or

○ Any other lawfully obtained immigration status or category they received while registered for TPS, as long as it is still valid beyond the date TPS terminates.

When was Yemen designated for TPS?

Former Secretary of Homeland Security Jeh Johnson initially designated Yemen for TPS on September 3, 2015, based on ongoing armed conflict in the country resulting from the July 2014 offensive by the Houthis, a northern opposition group that initiated a violent, territorial expansion across the country, eventually forcing Yemeni government leaders into exile in Saudi Arabia. See Designation of Republic of Yemen for Temporary Protected Status, 80 FR 53319 (Sept. 3, 2015). On January 4, 2017, former Secretary Johnson announced an 18-month extension of Yemen's existing designation and a new designation of Yemen for TPS on the dual bases of ongoing armed conflict and extraordinary and temporary conditions. See Extension and Redesignation of Republic of Yemen for Temporary Protected Status, 82 FR 859 (Jan. 4, 2017).

More recently, in July 2018, former Secretary Kirstjen Nielsen extended Yemen's designation for 18 months, though March 3, 2020. See Extension of the Designation of Yemen for Temporary Protected Status, 83 FR 40307 (Aug. 14, 2018).

What authority does the Secretary have to extend the designation of Yemen for TPS?

Section 244(b)(1) of the INA, 8 U.S.C. 1254a(b)(1), authorizes the Secretary, after consultation with appropriate agencies of the U.S. Government (Government), to designate a foreign state (or part thereof) for TPS if the Secretary determines that certain country conditions exist.¹ The decision to designate any foreign state (or part thereof) is a discretionary decision, and there is no judicial review of any determination with respect to the designation, or termination of, or extension of, a designation. The Secretary, in his discretion, may then grant TPS to eligible nationals of that foreign state (or eligible aliens having no nationality who last habitually resided in the designated country). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in the foreign state designated for TPS to determine whether the conditions for the TPS designation continue to be met. See INA section 244(b)(3)(A), 8 U.S.C. 1254a(b)(3)(A). If the Secretary does not determine that the foreign state no longer meets the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

Why is the Secretary extending the TPS designation for Yemen through September 3, 2021?

DHS has reviewed conditions in Yemen. Based on the review, including input received from other Government agencies, the Secretary has determined that an 18-month extension is warranted because the ongoing armed conflict and extraordinary and temporary conditions supporting Yemen's TPS designation remain.

Now in its fifth year, the conflict in Yemen continues, with ongoing clashes between the Houthi and government forces in Yemen. The Saudi-led coalition continues to wage a persistent air campaign against the Houthis and their allies, and fighting between government forces and the United Arab Emirates-backed Southern Transition Council (STC) initiated a new wave of violence in the south in 2019. In addition, terrorist groups, including Al-Qaeda in the Arabian Peninsula (AQAP) and a faction of the self-described Islamic State (IS-Y), carried out hundreds of attacks throughout Yemen in 2018 and 2019.

Civilians in Yemen continue to be killed and injured and to suffer numerous human rights abuses and violations, including those involving unlawful or arbitrary killings, forced disappearances, torture, sexual violence, arbitrary arrest and detention, and harsh and life-threatening prison conditions. Saudi-led coalition airstrikes have resulted in civilian casualties on multiple occasions. Houthi forces have used banned antipersonnel landmines, recruited children, and fired artillery into cities including Taiz and Aden, killing and wounding civilians. Government and Houthi security forces have committed rape and other forms of serious sexual violence targeting foreign migrants, internally displaced persons (IDPs), and other vulnerable groups. Non-state actors, including tribal militias, militant secessionist elements, AQAP, and IS-Y have also reportedly committed significant human rights abuses with impunity.

The United Nations has reported that there have been at least 102,000 civilian fatalities due to armed conflict in Yemen since 2015. 2018 was the deadliest year of the conflict to date, with 30,800 reported fatalities. From January-June 2019, 11,900 civilian fatalities were reported, also according to NGO reports.

Yemen continues to experience a significant humanitarian crisis. An estimated 24.1 million people—about 80 percent of the country's population of 30.5 million—require humanitarian assistance, according to the United Nations. From 2016 to 2018, as many as 4.3 million people were internally displaced in Yemen. An estimated 3.6 million remained displaced as of late 2019, while 1 million have returned from displacement to their places of origin, according to the United Nations Office for the Coordination of Humanitarian Affairs (UNOCHA). According to the International Organization for Migration, more than 190,000 people, including about 65,000 Yemenis, have fled to neighboring countries since the outbreak of the conflict. Yemen currently hosts more than 422,000 refugees, asylum-seekers, and migrants, many of whom grew more vulnerable due to the worsening security and economic situation in 2018, according to UNOCHA. More than 30 percent of new arrivals to Yemen are unaccompanied minors, also according to UNOCHA.

Yemen relies on imports for approximately 90 percent of staple food supplies, according to UNOCHA. Prior to 2015, Yemen was already suffering from significant food insecurity. In March 2019, the World Food Program declared that Yemen was experiencing the world's largest food crisis, affecting 20.1 million individuals. Of those experiencing food insecurity, 9.9 million are facing acute food insecurity. There are nearly 2.3 million suspected cholera cases, and more than 3,700 associated deaths from cholera, since April 2017, according to the World Health Organization.

Years of protracted conflict have severely damaged much of Yemen's critical infrastructure, according to UNOCHA. The conflict has caused significant destruction of housing, medical facilities, schools, and power and water utilities, limiting the availability of electricity, clean water, and medical care and hampering the ability of humanitarian organizations to deliver critically needed food, medicine, and water, according to a 2019 DOS Yemen Travel Advisory. In 2019, the escalating conflict extensively damaged the remaining public and civilian infrastructure, also according to UNOCHA.

Yemen's economy continues to deteriorate due to the ongoing conflict. The country's Gross Domestic Product (GDP) is estimated to have contracted by almost 40 percent since the end of 2014, although official statistics remain unavailable, according to the World Bank. The decline in economic activity has in turn led to a significant reduction in revenue collection, and increased the country's debt. Along with growing debt, a sharp increase in inflation and a large depreciation in the exchange rate from April 2018 to April 2019 dramatically reduced household purchasing power. The share of the population living below the poverty line has notably increased since the conflict began, with current projections indicating that more than 75 percent of the total population lives below the poverty line, also according to the World Bank.

Based upon this review, and after consultation with appropriate Government agencies, the Secretary has determined that:

• The conditions supporting Yemen's designation for TPS continue to be met. See INA section 244(b)(3)(A) and (C), 8 U.S.C. 1254a(b)(3)(A) and (C).

• There continues to be an ongoing armed conflict in Yemen and, due to such conflict, requiring the return to Yemen of Yemeni nationals (or aliens having no nationality who last habitually resided in Yemen) would pose a serious threat to their personal safety. See INA section 244(b)(1)(A), 8 U.S.C. 1254a(b)(1)(A).

• There continue to be extraordinary and temporary conditions in Yemen that prevent Yemeni nationals (or aliens having no nationality who last habitually resided in Yemen) from returning to Yemen in safety, and it is not contrary to the national interest of the United States to permit Yemeni TPS beneficiaries to remain in the United States temporarily. See INA section 244(b)(1)(C), 8 U.S.C. 1254a(b)(1)(C).

• The designation of Yemen for TPS should be extended for an 18-month period, from March 4, 2020, through September 3, 2021. See INA section 244(b)(3)(C), 8 U.S.C. 1254a(b)(3)(C).

Notice of Extension of the TPS Designation of Yemen

By the authority vested in me as Secretary under INA section 244, 8 U.S.C. 1254a, I have determined, after consultation with the appropriate Government agencies, the conditions supporting Yemen's designation for TPS continue to be met. See INA section 244(b)(3)(A), 8 U.S.C. 1254a(b)(3)(A). On the basis of this determination, I am extending the existing designation of TPS for Yemen for 18 months, from March 4, 2020, through September 3, 2021. See INA section 244(b)(1)(A), (b)(1)(C); 8 U.S.C. 1254a(b)(1)(A), (b)(1)(C).

Chad F. Wolf,
Acting Secretary.

Required Application Forms and Application Fees to Re-Register for TPS

To re-register for TPS based on the designation of Yemen, you must submit an Application for Temporary Protected Status (Form I-821). There is no Form I-821 fee for re-registration. See 8 CFR 244.17. You may be required to pay the biometric services fee. Please see additional information under the “Biometric Services Fee” section of this notice.

Through this Federal Register notice, your existing EAD issued under the TPS designation of Yemen with the expiration date of March 3, 2020, is automatically extended for 180 days, through August 30, 2020. Although not required to do so, if you want to obtain a new EAD valid through September 3, 2021, you must file an Application for Employment Authorization (Form I-765) and pay the Form I-765 fee (or submit a Request for a Fee Waiver (Form I-912)). If you do not want a new EAD, you do not have to file Form I-765 and pay the Form I-765 fee. If you do not want to request a new EAD now, you may also file Form I-765 at a later date and pay the fee (or request a fee waiver), provided that you still have TPS or a pending TPS application.

Additionally, aliens who have EADs with an expiration date of September 3, 2018, and who applied for a new EAD during the last re-registration period but have not yet received their new EADs are also covered by this automatic EAD extension through August 30, 2020. You do not need to apply for a new EAD to benefit from this 180-day automatic extension. If you have a Form I-821 and/or Form I-765 that was still pending as of March 2, 2020, then you do not need to file either application again. If USCIS approves your pending TPS application, USCIS will grant you TPS through September 3, 2021. Similarly, if USCIS approves your pending TPS-related Form I-765, USCIS will issue you a new EAD that will be valid through the same date.

You may file the application for a new EAD either prior to or after your current EAD has expired. However, you are strongly encouraged to file your application for a new EAD as early as possible to avoid gaps in the validity of your employment authorization documentation and to ensure that you receive your new EAD by August 30, 2020.

For more information on the application forms and fees for TPS, please visit the USCIS TPS web page at www.uscis.gov/tps. Fees for the Form I-821, the Form I-765, and biometric services are also described in 8 CFR 103.7(b)(1)(i).

Biometric Services Fee

Biometrics (such as fingerprints) are required for all applicants 14 years of age and older. Those applicants must submit a biometric services fee. For more information on the application forms and fees for TPS, please visit the USCIS TPS web page at www.uscis.gov/tps. If necessary, you may be required to visit an Application Support Center to have your biometrics captured. For additional information on the USCIS biometrics screening process, please see the USCIS Customer Profile Management Service Privacy Impact Assessment, available at www.dhs.gov/privacy.

Refiling a TPS Re-Registration Application After Receiving a Denial of a Fee Waiver Request

You should file as soon as possible within the 60-day re-registration period so USCIS can process your application and issue any EAD promptly. Properly filing early will also allow you to have time to refile your application before the deadline, should USCIS deny your fee waiver request. If, however, you receive a denial of your fee waiver request and are unable to refile by the re-registration deadline, you may still refile your Form I-821 with the biometrics fee. USCIS will review this situation to determine whether you established good cause for late TPS re-registration. However, you are urged to refile within 45 days of the date on any USCIS fee waiver denial notice, if possible. See INA section 244(c)(3)(C); 8 U.S.C. 1254a(c)(3)(C); 8 CFR 244.17(b). For more information on good cause for late re-registration, visit the USCIS TPS web page at www.uscis.gov/tps. Following denial of your fee waiver request, you may also refile your Form I-765 with fee either with your Form I-821 or at a later time, if you choose.

Note: Although a re-registering TPS beneficiary age 14 and older must pay the biometric services fee (but not the Form I-821 fee) when filing a TPS re-registration application, you may decide to wait to request an EAD. Therefore, you do not have to file the Form I-765 or pay the associated Form I-765 fee (or request a fee waiver) at the time of re-registration, and could wait to seek an EAD until after USCIS has approved your TPS re-registration application. If you choose to do this, to re-register for TPS you would only need to file the Form I-821 with the biometrics services fee, if applicable, (or request a fee waiver).

Mailing Information

Mail your application for TPS to the proper address in Table 1.

Table 1—Mailing Addresses
If you would like to send your application by: | Then, mail your application to:
U.S. Postal Service | U.S. Citizenship and Immigration Services, Attn: TPS Yemen, P.O. Box 6943, Chicago, IL 60680-6943.
A non-U.S. Postal Service courier | U.S. Citizenship and Immigration Services, Attn: TPS Yemen, 131 S Dearborn Street—3rd Floor, Chicago, IL 60603-5517.

If you were granted TPS by an Immigration Judge (IJ) or the Board of Immigration Appeals (BIA) and you wish to request an EAD or are re-registering for the first time following a grant of TPS by an IJ or the BIA, please mail your application to the appropriate mailing address in Table 1. When re-registering and requesting an EAD based on an IJ/BIA grant of TPS, please include a copy of the IJ or BIA order granting you TPS with your application. This will help us to verify your grant of TPS and process your application.

Supporting Documents

The filing instructions on the Form I-821 list all the documents needed to establish eligibility for TPS. You may also find information on the acceptable documentation and other requirements for applying or registering for TPS on the USCIS website at www.uscis.gov/tps under “Yemen.”

Employment Authorization Document (EAD)

How can I obtain information on the status of my EAD request?

To get case status information about your TPS application, including the status of an EAD request, you can check Case Status Online at www.uscis.gov, or call the USCIS Contact Center at 800-375-5283 (TTY 800-767-1833). If your Form I-765 has been pending for more than 90 days, and you still need assistance, you may request an EAD inquiry appointment with USCIS at my.uscis.gov/en/appointment/v2. However, we strongly encourage you first to check Case Status Online or call the USCIS Contact Center for assistance before requesting an appointment online.

Am I eligible to receive an automatic extension of my current EAD through August 30, 2020, through this Federal Register notice?

Yes. Provided that you currently have a Yemen TPS-based EAD described below, this notice automatically extends your EAD through August 30, 2020, if you are a national of Yemen (or an alien having no nationality who last habitually resided in Yemen); and have one of the following:

• An EAD with a marked expiration date of March 3, 2020, bearing the notation A-12 or C-19 on the face of the card under Category, or

• An EAD with a marked expiration date of September 3, 2018, bearing the notation A-12 or C-19 on the face of the card under Category and you applied for a new EAD during the last re-registration period but have not yet received a new EAD.

Although this Federal Register notice automatically extends your EAD through August 30, 2020, you must re-register timely for TPS in accordance with the procedures described in this Federal Register notice to maintain your TPS.

When hired, what documentation may I show to my employer as evidence of employment authorization and identity when completing Form I-9?

You can find the Lists of Acceptable Documents on the third page of Form I-9 as well as the Acceptable Documents web page at www.uscis.gov/i-9-central/acceptable-documents. Employers must complete Form I-9 to verify the identity and employment authorization of all new employees. Within 3 days of hire, employees must present acceptable documents to their employers as evidence of identity and employment authorization to satisfy Form I-9 requirements.

You may present any document from List A (which provides evidence of both identity and employment authorization), or one document from List B (which provides evidence of your identity) together with one document from List C (which provides evidence of employment authorization), or you may present an acceptable receipt as described in the Form I-9 instructions. Employers may not reject a document based on a future expiration date. You can find additional information about Form I-9 on the I-9 Central web page at www.uscis.gov/I-9Central.

An EAD is an acceptable document under List A. See the section “How do my employer and I complete Form I-9 using my automatically extended employment authorization for a new job?” of this Federal Register notice for further information. If your EAD has an expiration date of March 3, 2020, or September 3, 2018 (and you applied for a new EAD during the last re-registration period but have not yet received a new EAD), and states A-12 or C-19 under Category, it has been extended automatically by virtue of this Federal Register notice and you may choose to present your EAD to your employer as proof of identity and employment eligibility for Form I-9 through August 30, 2020, unless your TPS has been withdrawn or your request for TPS has been denied. If you have an EAD with a marked expiration date of March 3, 2020, that states A-12 or C-19 under Category, and you received a Notice of Action (Form I-797C) that states your EAD is automatically extended for 180 days, you may choose to present your EAD to your employer together with this Form I-797C as a List A document that provides evidence of your identity and employment authorization for Form I-9 through August 30, 2020, unless your TPS has been withdrawn or your request for TPS has been denied. See the subsection titled, “How do my employer and I complete the Employment Eligibility Verification (Form I-9) using my automatically extended employment authorization for a new job?” for further information.

As an alternative to presenting evidence of your automatically extended EAD, you may choose to present any other acceptable document from List A, a combination of one selection from List B and one selection from List C, or an acceptable receipt.

What documentation may I present to my employer for Form I-9 if I am already employed but my current TPS-related EAD is set to expire?

Even though your EAD has been automatically extended, your employer is required by law to ask you about your continued employment authorization, and you will need to present your employer with evidence that you are still authorized to work. Once presented, your employer should update the EAD expiration date in Section 2 of Form I-9. See the section “What corrections should my current employer make to Form I-9 if my employment authorization has been automatically extended?” of this Federal Register notice for further information. You may show this Federal Register notice to your employer to explain what to do for Form I-9 and to show that your EAD has been automatically extended through August 30, 2020. Your employer may need to re-inspect your automatically extended EAD to check the Card Expires date and Category code if your employer did not keep a copy of your EAD when you initially presented it.

The last day of the automatic extension for your EAD is August 30, 2020. Before you start work on August 31, 2020, your employer is required by law to reverify your employment authorization in Section 3 of Form I-9. At that time, you must present any document from List A or any document from List C on Form I-9, Lists of Acceptable Documents, or an acceptable List A or List C receipt described in the Form I-9 instructions, to reverify employment authorization.

If your original Form I-9 was a previous version, your employer must complete Section 3 of the current version of Form I-9, and attach it to your previously completed Form I-9. Your employer can check the I-9 Central web page at www.uscis.gov/I-9Central for the most current version of Form I-9.

Your employer may not specify which List A or List C document you must present and cannot reject an acceptable receipt.

Can my employer require that I provide any other documentation to prove my status, such as proof of my Yemeni citizenship or a Form I-797C showing I re-registered for TPS?

No. When completing Form I-9, including reverifying employment authorization, employers must accept any documentation that appears on the Form I-9 “Lists of Acceptable Documents” that reasonably appears to be genuine and that relates to you, or an acceptable List A, List B, or List C receipt. Employers need not reverify List B identity documents. Employers may not request documentation that does not appear on the Lists of Acceptable Documents. Therefore, employers may not request proof of Yemeni citizenship or proof of re-registration for TPS when completing Form I-9 for new hires or reverifying the employment authorization of current employees. If presented with an EAD that has been automatically extended, employers should accept such a document as a valid List A document, so long as the EAD reasonably appears to be genuine and relates to the employee. Refer to the “Note to Employees” section of this Federal Register notice for important information about your rights if your employer rejects lawful documentation, requires additional documentation, or otherwise discriminates against you based on your citizenship or immigration status, or your national origin.

How do my employer and I complete Form I-9 using my automatically extended employment authorization for a new job?

When using an automatically extended EAD to complete Form I-9 for a new job before August 31, 2020, for Section 1, you should:

a. Check “An alien authorized to work until” and enter August 30, 2020 as the expiration date; and

b. Enter your USCIS number or A-Number where indicated (your EAD or other document from DHS will have your USCIS number or A-Number printed on it; the USCIS number is the same as your A-Number without the A prefix).

For Section 2, your employer should:

a. Determine if the EAD is auto-extended by ensuring it is in Category A-12 or C-19 and has a Card Expires date of March 3, 2020 (or Card Expires date of September 3, 2018, if you applied for a new EAD during the last re-registration period but have not yet received a new EAD);

b. Write in the document title;

c. Enter the issuing authority;

d. Enter either the employee's A-Number or USCIS number from Section 1 in the Document Number field on Form I-9; and

e. Write August 30, 2020, as the expiration date.

Before the start of work on August 31, 2020, employers must reverify the employee's employment authorization in Section 3 of Form I-9.

What corrections should my current employer make to Form I-9 if my employment authorization has been automatically extended?

If you presented a TPS-related EAD that was valid when you first started your job and your EAD has now been automatically extended, your employer may need to re-inspect your current EAD if the employer does not have a copy of the EAD on file. Your employer should determine if your EAD is automatically extended by ensuring that it contains Category A-12 or C-19 and has a Card Expires date of March 3, 2020 (or a Card Expires date of September 3, 2018, if you applied for a new EAD during the last re-registration period but have not yet received a new EAD). If your employer determines that your EAD has been automatically extended, your employer should update Section 2 of your previously completed Form I-9 as follows:

a. Write EAD EXT and August 30, 2020, as the last day of the automatic extension in the Additional Information field; and

b. Initial and date the correction.

Note: This is not considered a reverification. Employers do not need to complete Section 3 until either the 180-day automatic extension has ended or the employee presents a new document to show continued employment authorization, whichever is sooner. By August 31, 2020, when the employee's automatically extended EAD has expired, employers are required by law to reverify the employee's employment authorization in Section 3. If your original Form I-9 was a previous version, your employer must complete Section 3 of the current version of Form I-9 and attach it to your previously completed Form I-9. Your employer can check the I-9 Central web page at www.uscis.gov/I-9Central for the most current version of Form I-9.

If I am an employer enrolled in E-Verify, how do I verify a new employee whose EAD has been automatically extended?

Employers may create a case in E-Verify for a new employee by providing the employee's A-Number or USCIS number from Form I-9 in the Document Number field in E-Verify.

If I am an employer enrolled in E-Verify, what do I do when I receive a “Work Authorization Documents Expiration” alert for an automatically extended EAD?

E-Verify automated the verification process for TPS-related EADs that are automatically extended. If you have employees who provided a TPS-related EAD when they first started working for you, you will receive a “Work Authorization Documents Expiring” case alert when the auto-extension period for this EAD is about to expire. Before this employee starts work on August 31, 2020, as appropriate, you must reverify his or her employment authorization in Section 3 of Form I-9. Employers should not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I9Central@dhs.gov. USCIS accepts calls and emails in English and many other languages. For questions about avoiding discrimination during the employment eligibility verification process (Form I-9 and E-Verify), employers may call the U.S. Department of Justice's Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@dhs.gov. USCIS accepts calls in English, Spanish, and many other languages. Employees or applicants may also call the IER Worker Hotline at 800-255-7688 (TTY 800-237-2515) for information regarding employment discrimination based upon citizenship, immigration status, or national origin, including discrimination related to Employment Eligibility Verification (Form I-9) and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of Tentative Nonconfirmation (TNC) must promptly inform employees of the TNC and give such employees an opportunity to contest the TNC. A TNC case result means that the information entered into E-Verify from an employee's Form I-9 differs from records available to DHS.

Employers may not terminate, suspend, delay training, withhold pay, lower pay, or take any adverse action against an employee because of the TNC while the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at www.justice.gov/ier and on the USCIS and E-Verify websites at www.uscis.gov/i-9-central and www.e-verify.gov.

Note Regarding Federal, State, and Local Government Agencies (Such as Departments of Motor Vehicles)

For Federal purposes, TPS beneficiaries presenting an EAD referenced in this Federal Register Notice do not need to show any other document, such as an I-797C Notice of Action, to prove that they qualify for this extension. However, while Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary, show you are authorized to work based on TPS or other status, and/or that may be used by DHS to determine whether you have TPS or other immigration status. Examples of such documents are:

• Your current EAD;

• A copy of your Form I-797C, Notice of Action, for your Form I-765 providing an automatic extension of your currently expired or expiring EAD;

• A copy of your Form I-797C, Notice of Action, for your Form I-821 for this re-registration;

• A copy of your Form I-797, the notice of approval, for a past or current Form I-821, if you received one from USCIS; and

• Any other relevant DHS-issued document that indicates your immigration status or authorization to be in the United States, or that may be used by DHS to determine whether you have such status or authorization to remain in the United States.

Check with the government agency regarding which document(s) the agency will accept. Some benefit-granting agencies use the USCIS Systematic Alien Verification for Entitlements (SAVE) program to confirm the current immigration status of applicants for public benefits. While SAVE can verify when an alien has TPS, each agency's procedures govern whether they will accept an unexpired EAD, I-797, or I-94. You should:

a. Present the agency with a copy of the relevant Federal Register notice showing the extension of TPS-related documentation in addition to your recent TPS-related document with your alien or I-94 number;

b. Explain that SAVE will be able to verify the continuation of your TPS using this information; and

c. Ask the agency to initiate a SAVE query with your information and follow through with additional verification steps, if necessary, to get a final SAVE response showing the validity of your TPS.

You can also ask the agency to look for SAVE notices or contact SAVE if they have any questions about your immigration status or auto-extension of TPS-related documentation. In most cases, SAVE provides an automated electronic response to benefit-granting agencies within seconds, but, occasionally, verification can be delayed. You can check the status of your SAVE verification by using CaseCheck at save.uscis.gov/casecheck, then by clicking the “Check Your Case” button. CaseCheck is a free service that lets you follow the progress of your SAVE verification using your date of birth and one immigration identifier number. If an agency has denied your application based solely or in part on a SAVE response, the agency must offer you the opportunity to appeal the decision in accordance with the agency's procedures. If the agency has received and acted upon or will act upon a SAVE verification and you do not believe the response is correct, you may make an appointment for an in-person interview at a local USCIS office. Detailed information on how to make corrections or update your immigration record, make an appointment, or submit a written request to correct records under the Freedom of Information Act can be found on the SAVE website at www.uscis.gov/save.

[FR Doc. 2020-04355 Filed 2-28-20; 8:45 am]

BILLING CODE 9111-97-P